DEPARTMENT OF TRANSPORTATION

Federal Aviation Administration

Notice of the U.S. Air Force Supplemental Final Environmental Impact Statement and FAA Approval of the Record of Decision for the Realistic Bomber Training Initiative (RBTI)

AGENCY: Federal Aviation Administration (FAA), DOT.

ACTION: Adoption of the USAF Supplemental Final Environmental Impact Statement and Issuance of the FAA Record of Decision (ROD).

SUMMARY: The FAA is announcing—adoption of the United States Air Force (USAF) Final Supplemental Environmental Impact Statement (SEIS) for the Realistic Bomber Training Initiative (RBTI), and approval of the FAA Record of Decision (ROD). The USAF proposal was to create airspace that allows B-52 and B-1 aircrews to receive much needed realistic combat training while maximizing their training time. RBTI includes the Lancer Military Operating Area (MOA) and the Instrument Military Training Route 178 (IR-178).

EFFECTIVE DATES: April 11, 2007.

ADDRESSES: Federal Aviation Administration, Central Services Area, System Support Group, 2601 Meacham Blvd., Fort Worth, TX, 76137.

FOR FURTHER INFORMATION CONTACT: Ms. Nan Terry, Federal Aviation Administration, Central Services Area, System Support Group, 2601 Meacham Blvd, Fort Worth, Texas, 76137, (817) 222-5594.

SUPPLEMENTARY INFORMATION:

Background

On December 19, 1997, the National Environmental Policy Act (NEPA) process for RBTI began with publication of the Notice of Intent (NOI) in the Federal Register. The Draft Environmental Impact Statement (EIS) was published in March 1999 (Volume 64, Number 53). Fifteen public hearings were held in 11 communities. The Final EIS, published and made available to the public in January 2000, identified the USAF preferred alternative as Alternative B.

In March 2000, the USAF Deputy Chief of Staff for Air and Space Operations issued its initial Record of Decision (ROD) ((Air Force 2000b)), choosing Alternative B for implementation. They then submitted the formal airspace proposal to establish the Lancher Military Operating Area (MOA) to the FAA in April 2000. After conducting its own independent evaluation of the environmental documentation and completing the aeronautical circularization process, the FAA adopted the Final EIS and gave final approval for the RBTI airspace on December 11, 2001, with an effective date of February 21, 2002.

The USAF and FAA were sued by parties alleging, among other things that there was a failure to comply with NEPA. In March 2003, the U.S. District Court, Northern District of Texas, Lubbock Division, granted summary judgment in favor of the United States. The plaintiffs appealed to the U.S. Court of Appeals for the Fifth Circuit. One of the plaintiffs also filed a separate petition in the Fifth Circuit alleging that the FAA had failed to comply with NEPA in approving the RBTI airspace. In a single opinion covering both the USAF and FAA cases, the Court of Appeals (October 2004) upheld the adequacy of the Final EIS in most respects, but remanded the action to the USAF and FAA to prepare a Supplemental EIS (SEIS) addressing the impact of wake vortices on ground structures, and to the USAF for compliance with the Council on Environmental Quality and USAF internal requirements for addressing FAA comments.

Public Involvement Pertaining to the SEIS

The Air Force, in cooperation with the FAA, published a Notice of Availability for the Draft Supplemental EIS in the Federal Register on November 18, 2005 marking the beginning of the official comment period. Between December 5, 2005 and January 28, 2006, the Air Force and FAA conducted a total of five public hearings at locations in the proximity of the proposed action and alternatives. Lubbock, Texas was added as the fifth public hearing location based on requests from interested citizens.

Notice of Availability of the Final SEIS appeared in the Federal Register on August 11, 2006 (Volume 71, Number 155) with a comment period of thirty-one (31) days. Additional information regarding the public involvement process can be found in the USAF ROD dated March 20, 2007.

Copies of the Final SEIS can be received by contacting Ms. Sheryl Parker at (757) 764-9334. The document is also available for review, during normal business hours, at the following locations:

Abilene Public Library | 202 Cedar St. | Abilene, TX | 79601
Alpine Public Library | 203 N. 7th St. | Alpine, TX | 79830
Amarillo Public library | P.O. Box 2171 | Amarillo, TX | 79189
Stonewall County Library | P.O. Box H | Aspermont, TX | 79502
Reagan County | County Courthouse | Big Lake, TX | 76932
Howard County | 312 Scurry St. | Big Spring, TX | 79720
Crane County Library | 701 S. Alford St. | Crane, TX | 79731
Dallam County Library | 420 Denrock Ave. | Dalhart, TX | 79022
Jeff Davis County Library | Court and Main Streets | Ft. Davis, TX | 79734
Ft. Stockton Public Library | 400 N. Water | Ft. Stockton, TX | 79735
Kent County Library | P.O. Box 28 | Jayton, TX | 79258
Winkler County Library | 307 S. Poplar | Kermit, TX | 79745
Dawson Co. Public Library | P.O. Box 1264 | Lamesa, TX | 79331
Lubbock Library | 1306 9th St. | Lubbock, TX | 79401
Marfa City Municipal Library | P.O. Drawer U | Marfa, TX | 79845
Irion County Library | P.O. Box 766 | Merzton, TX | 76941
Ward County Library | 409 S. Dwight St. | Monahans, TX | 79756
Ector County Library | 321 W. 5th St. | Odessa, TX | 79761
Reeves County Library | 505 S. Park St. | Pecos, TX | 79772
Post Public Library | 105 E. Main St. | Post, TX | 79356
City of Presidio Library | P.O. Box K | Presidio, TX | 79845
Rankin Public Library | P.O. Box 6 | Rankin, TX | 79778
Rotan Public Library | 404 E. Snyder Ave. | Rotan, TX | 79546
Tom Green County System | 113 W. Beauregard Ave. | San Angelo, TX | 76903
Sierra Blanca Public Library | Sierra Blanca | Sierra Blanca, TX | 79851
Scurry County Public Library | 1916 23rd St. | Snyder, TX | 79549
Sterling County Public Library | P.O. Box 1130 | Sterling City, TX | 76951
Taos Public Library | 402 Camino de la Placita | Taos, NM | 87571
City-County Library | Box 1018 | Tahoka, TX | 79373
Van Horn Library | P.O. Box 129 | Van Horn, TX | 79855

The FAA's determinations on the project are outlined in the FAA ROD, which was approved on April 11, 2007. A copy of the ROD can be received by contacting Ms. Nan Terry, in the For Further Information Section above.

Issued in Washington, DC, on May 7, 2007.
Edith V. Parish,
Acting Manager, Environmental Programs Group, System Operations Airspace & Aeronautical Information Management, Air Traffic Organization.

[FR Doc. 07-2394 Filed 5-15-07; 8:45am]

BILLING CODE 4910-13-M